DEPARTMENT OF EDUCATION

[CFDA No.: 84.293B]

Foreign Language Assistance Grants (Local Educational Agencies); Notice Inviting Applications for New Awards for Fiscal Year (FY) 2003

Note to Applicants: This notice is a complete application package. Together with the statute authorizing the program and the Education Department General Administrative Regulations (EDGAR), this notice contains all of the information, application forms, and instructions you need to apply for an award under this program.

Purpose of Program: The Foreign Language Assistance Program (FLAP) provides grants to local educational agencies for innovative model programs providing for the establishment, improvement, or expansion of foreign language study for elementary and secondary school students.

For FY 2003 the competition for new awards focuses on projects designed to meet the priorities we describe in the Priorities section of this notice.

Eligible Applicants: Local educational agencies (LEAs).

E-Mail Notification of Intent to Apply for Funding: The Department will be able to develop a more efficient process for reviewing grant applications if it has a better understanding of the number of LEAs that intend to apply for funding under this competition. Therefore, we strongly encourage each potential applicant to notify the Department with a short e-mail noting the intent to submit an application for funding. The e-mail should not include information regarding the content of the proposed application. Please provide the following information:

(1) FLAP-LEA program 84:293B, (2) intent to apply, (3) planned number of applications, (4) school district, (5) city and (6) state. We request that this e-mail notification be sent no later than May 30, 2003. The e-mail should be sent to Ms. Amy Weinmann at Amy.Weinmann@ed.gov. Applicants that do not provide this e-mail notification may still apply for funding.

Deadline for Transmittal of Applications: June 13, 2003.

Deadline for Intergovernmental Review: August 13, 2003.

Estimated Available Funds: $10,000,000.

Estimated Range of Awards: $50,000-$175,000.

Estimated Average Size of Awards: $112,500.

Estimated Number of Awards: 89.

Note: The Department is not bound by any estimates in this notice.

Project Period: 36 months.

Page Limit: The application narrative (Part III of the application) is where you, the applicant, address the selection criteria that reviewers use to evaluate your application. You must limit Part III to the equivalent of no more than 35 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the itemized budget breakdown and the narrative budget justification; Part IV, the assurances and certifications; or the one-page abstract. However, you must include all of the application narrative in Part III.

We will reject your application if—

• You apply these standards and exceed the page limit; or

• You apply other standards and exceed the equivalent of the page limit.

Applicable Regulations: (a) The Education Department General Administrative Regulations (EDGAR) in 34 CFR parts 75, 77, 79, 80, 81, 82, 85, 86, 97, 98 and 99.

Description of Program: If you are an LEA that receives a grant under this program, you must use the funds to provide a program that—

(A) Shows the promise of being continued beyond the project period; and

(B) Demonstrates approaches that can be disseminated and duplicated in other LEAs.

You may also use funds under this program to—

(C) Include a professional development component.

In order to build foreign language program capacity at the local level, cost sharing is required. You should note that the Federal share of the cost of activities assisted under this program for each fiscal year is 50 percent. The Secretary may waive this requirement for any LEA which the Secretary determines does not have adequate resources to pay the non-Federal share.

The Secretary does not fund projects that propose Native American languages, Native Hawaiian, other Pacific Island languages or Native Alaskan languages. In addition, the program is not intended to support the teaching of English.

Competitive Priorities

Under 34 CFR 75.105(c)(2)(i) we award an additional 5 points to an application, depending on whether the application meets one or both of the following priorities.

Note: A total of 5 points will be awarded. There is no advantage in addressing both priorities, but you should not be dissuaded from addressing both priorities in your application if they provide a program that will meet the needs of your students and community. These points are in addition to any points the applicant earns under the selection criteria.

(1) Applications proposing to establish, improve, or expand foreign language learning in any or all of the following grades, Kindergarten through eighth grade, that teach any or all of the following less commonly taught languages of major economic and political importance to the United States: Russian, Chinese and Arabic.

(2) Applications proposing to establish a foreign language program in underserved schools. For the purpose of this priority an underserved school is defined as a school that does not currently have a foreign language program implemented during the school day, including two-way immersion and heritage language programs, and has not had one in the previous two school years 2001-2002 and 2002-2003.

Competitive Preferences

Under 34 CFR 75.105(c)(2)(ii) we give preference to applications that meet one of the following priorities over an application of comparable merit that does not meet one of the priorities.

Note: There is no advantage in addressing all five priorities. Creating a program around the five priorities may result in a scattered or unfocused program design.

We give preference to applications describing programs that:

(1) Include intensive summer foreign language programs for professional development;

(2) Link non-native English speakers in the community with the schools in order to promote two-way language learning;

(3) Promote the sequential study of a foreign language for students, beginning in elementary schools;

(4) Make effective use of technology, such as computer-assisted instruction, language laboratories, or distance learning, to promote foreign language study; or

(5) Promote innovative activities, such as foreign language immersion, partial foreign language immersion, or content-based instruction.

Waiver of Proposed Rulemaking

Under the Administrative Procedure Act (5 U.S.C. 553) the Department generally offers interested parties the opportunity to comment on proposed priorities and selection criteria. Section 437(d)(1) of the General Education Provisions Act, however, exempts from this requirement rules that apply to the first competition under a new or substantially revised program authority. This is the first competition under the Foreign Language Assistance Program as substantially revised by the No Child Left Behind Act of 2001. The requirements will apply to the FY 2003 grant competition only.

Reporting Requirements and Expected Outcomes

The Secretary requires successful applicants to submit annual performance reports that document the grantee's yearly progress toward meeting expected programmatic outcomes. These outcomes should be based on measurable performance objectives. The Secretary will use these reports to measure the success of the grantee's project, and the reports will contribute to a broader knowledge base about high-quality, effective foreign language programs. In addition, grantees will be required to submit a final performance report, due no later than 90 days after the end of the project period.

Selection Criteria

We use the following selection criteria to evaluate applications for new grants under this competition.

The maximum score for all of these criteria is 100 points.

The maximum score for each criterion is indicated in parentheses.

(a) Significance. (10 points)

We evaluate an application by determining how well the project proposed by the applicant meets the following statutory provisions:

(1) The extent to which the project shows the promise of being continued beyond the grant period.

(2) The extent to which the project demonstrates approaches that can be disseminated and duplicated in other local educational agencies.

(3) The extent to which the project will result in an effective effort to establish, improve or expand foreign language teaching and learning.

(b) Quality of the product design. (40 points)

In determining the quality of the design of the proposed project, we consider the following factors:

(1) The extent to which the project design represents a comprehensive plan which effectively links identified needs, goals, objectives, activities and outcomes.

(2) The extent to which the goals, objectives and outcomes are clearly specified and measurable.

(3) The extent to which the design of the proposed project incorporates the National Foreign Language Standards and up-to-date knowledge from scientifically based research and effective practice.

(4) The extent to which the project design will provide performance feedback and permit periodic assessment of progress toward achieving intended outcomes, such as, student progress, capacity building and dissemination.

(5) The extent to which the project design will provide guidance about effective strategies suitable for disseminating and duplicating the project in other settings.

(6) The extent to which the project design will provide quantifiable data reflecting:

(i) Student proficiency in reading, writing, comprehending and communicating in the foreign language,

(ii) Usage of the National Foreign Language Standards (Communication, Culture, Connections, Comparisons and Communities),

(iii) Building local capacity to continue program components beyond the grant period, and

(iv) Disseminating and duplicating program approaches to other local educational agencies.

(c) Quality of project services. (8 points)

In determining the quality of the services to be provided by the proposed project, we consider the following factors:

(1) The quality and sufficiency of strategies for ensuring equal access and treatment for eligible project participants who are members of groups that have traditionally been underrepresented based on race, color, national origin, gender, age, or disability.

(2) The extent to which the services to be provided by the proposed project are appropriate to the needs of the intended recipients or beneficiaries of those services.

(3) The likelihood that the services to be provided will lead to improvements in the achievement of students as measured against rigorous academic standards.

(d) Quality of project personnel. (12 points)

In determining the quality of project personnel, we consider the following:

(1) The extent to which the applicant encourages applications for employment from persons who are members of groups that have traditionally been underrepresented based on race, color, national origin, gender, age, or disability.

(2) The qualifications, including relevant training and experience, of the project director and key project personnel as required by position descriptions.

(3) The qualifications, including relevant training and experience of project teachers.

(e) Adequacy of resources. (5 points)

In determining the adequacy of resources for the proposed project, we consider the following factors:

(1) The extent to which the budget is adequate to support the proposed project.

(2) The extent to which the costs are reasonable in relation to the objectives, design, and potential significance of the proposed project.

(f) Quality of the management plan. (10 points)

In determining the quality of the management plan for the proposed project, we consider the following factors:

(1) The effectiveness of the management plan in demonstrating how the objectives and activities of the proposed project will be achieved on time, and within budget, including clearly defined responsibilities of staff, timelines, benchmarks, continuous improvement strategies and milestones for accomplishing project tasks.

(2) The extent to which the time commitments of the project director and other key project personnel are appropriate and adequate to meet the objectives of the proposed project.

(g) Quality of the project evaluation. (15 points)

In determining the quality of the project evaluation, we consider the following factors:

(1) The extent to which the methods of evaluation are thorough, feasible, and appropriate to the goals, objectives, and outcomes of the proposed project.

(2) The extent to which the evaluation plan will produce quantitative and qualitative data.

(3) The extent to which the evaluation plan will provide performance feedback and permit periodic assessment of progress toward achieving intended outcomes, such as, student progress, capacity building and dissemination.

(4) The extent to which the evaluation plan will provide guidance about effective strategies suitable for disseminating and duplicating the project in other settings.

(5) The extent to which the evaluation plan design will provide quantifiable data reflecting:

(i) Student proficiency in reading, writing, comprehending and communicating in the foreign language,

(ii) Usage of the National Foreign Language Standards (Communication, Culture, Connections, Comparisons and Communities),

(iii) Building local capacity to continue program components beyond the grant period, and

(iv) Disseminating and duplicating program approaches to other local educational agencies.

Intergovernmental Review of Federal Programs

This program is subject to Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. If you want to know the name and address of any SPOC, see the latest official SPOC list on the Web site of the Office of Management and Budget at the following address: http://www.whitehouse.gov/omb/grants/spoc.html.

In States that have not established a process or chosen a program for review, State, areawide, regional, and local entities may submit comments directly to the Department.

Any State Process Recommendation and other comments submitted by a State Single Point of Contact and any comments from State, areawide, regional, and local entities must be mailed or hand-delivered by the date indicated in the actual application notice to the following address: The Secretary, E.O. 12372—CFDA# 84.293B, U.S. Department of Education, room 7E200, 400 Maryland Avenue, SW., Washington, DC 20202-0125.

We will determine proof of mailing on the same basis as applications (see 34 CFR 75.102). Recommendations or comments may be hand-delivered until 4:30 p.m. (Washington, DC time) on the date indicated in this notice.

Please Note That This Address Is Not the Same Address as the One to Which an Applicant Submits Its Completed Application. Do Not Send Applications to the Above Address.

Application Instructions and Forms

The Appendix to this notice contains all required forms and instructions, a statement regarding estimated public reporting burden, a notice to applicants regarding compliance with section 427 of the General Education Provisions Act (GEPA), various assurances, certifications and a checklist for applicants.

• Application for Federal Assistance (ED 424 (Exp. 11/30/2004)) and instructions and definitions.

• Protection of Human Subjects in Research (Attachment to ED 424).

• Budget Information—Non-Construction Programs (ED Form No. 524). Including Section A—Budget Summary, U.S. Department of Education Funds; Section B—Budget Summary, Non-Federal Funds; and Instructions for ED Form 524 containing Section C—Other Budget Information to provide an Itemized Budget Breakdown.

• Application Narrative. While no form is provided, the sections on Instructions for Application Narrative and Page Limit elsewhere in this application notice apply to your application narrative.

• Group Application Certification.

• Foreign Language Data Form.

• Assurances—Non-Construction Programs (Standard Form 424B) (Rev. 7-97).

• Certifications regarding Lobbying; Debarment, Suspension, and Other Responsibility Matters; and Drug-Free Workplace Requirements (ED 80-0013, 12/98) and instructions.

• Certification Regarding Debarment, Suspension, Ineligibility and Voluntary Exclusion: Lower Tier Covered Transactions (ED 80-0014, 9/90) and instructions.

• Disclosure of Lobbying Activities (Standard Form LLL (Rev. 7-97)) and instructions.

• Notice to All Applicants concerning the Department of Education's General Education Provisions Act (GEPA).

• Survey on Ensuring Equal Opportunity for Applicants.

• Program Non-Regulatory Guidance.

You may submit information on a photocopy of the application forms, the assurances, and the certifications. However, you must submit ONE original signed application, including ink signatures on all forms and assurances and THREE copies of the application. Please mark each application as original or copy. We will not award a grant unless we have received a completed application form.

Individuals with disabilities may obtain this document in an alternative format (e.g., Braille, large print, audiotape, or computer diskette) on request to either of the program contact persons listed under FOR FURTHER INFORMATION CONTACT. However, the Department is not able to reproduce in an alternative format the standard forms included in this application notice.

Electronic Access to This Document: You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free at 1-888-293-6498; or in the Washington, DC area at (202) 512-1530.

You may also view this document at the following site: www.ed.gov/offices/OELA/funding.html.

Note: The official version of this document is the document published in the Federal Register. Free Internet access to the official edition of the Federal Register and the Code of Federal Regulations is available on GPO Access at: http://www.access.gpo.gov/nara/index.html.

FOR FURTHER INFORMATION CONTACT: East of the Mississippi River—Rebecca Richey, U.S. Department of Education, 400 Maryland Avenue, SW., room 5617, Switzer Building, Washington, DC 20202-6510. Telephone: (202) 205-9717 or via Internet: rebecca.richey@ed.gov.

West of the Mississippi River—Itzetht Testa-Salcedo, U.S. Department of Education, 400 Maryland Avenue, SW., room 5629, Switzer Building, Washington, DC 20202-6510. Telephone: (202) 205-8726 or via Internet: itzetht.testa-salcedo@ed.gov.

Or, Sharon Manassa, U.S. Department of Education, 400 Maryland Avenue, SW., room 5647, Switzer Building, Washington, DC 20202-6510. Telephone: (202) 205-8731 or via Internet: sharon.manassa@ed.gov.

If you use a telecommunications device for the deaf (TDD), you may call the Federal Information Relay Service (FIRS) at 1-800-877-8339.

Instructions for Transmitting Applications

If you want to apply for a grant and be considered for funding, you must meet the following deadline requirements:

(a) If You Send Your Application by Mail.

You must mail the original and two copies on or before the deadline date. Mail your application to: U.S. Department of Education, Application Control Center, Attention: (CFDA# (84.293B), 7th and D Streets, SW., Room 3633, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

Note: The Department encourages you to consider using an alternative delivery method (for example, a commercial carrier, such as Federal Express or United Parcel Service; U.S. Postal Service Express Mail; or a courier service) to transmit your application for this competition. If you use an alternative delivery method, please obtain the appropriate proof of mailing under this section (a) “If You Send Your Application by Mail,” then follow the instructions in section (b) “If You Deliver Your Application by Hand.”

(b) If You Deliver Your Application by Hand

You or your courier must hand deliver the original and two copies by 4:30 p.m. (Washington, DC time) on or before the deadline date. Deliver your application to: U.S. Department of Education, Application Control Center, Attention: (CFDA #293B), 7th and D Streets, SW., Room 3633, Regional Office Building 3, Washington, DC 20202-4725.

The Application Control Center accepts application deliveries daily between 8 a.m. and 4:30 p.m. (Washington, DC time), except Saturdays, Sundays and Federal holidays. The Center accepts application deliveries through the D Street entrance only. A person delivering an application must show identification to enter the building.

Notes

(1) The U.S. Postal Service does not uniformly provide a dated postmark. Before relying on this method, you should check with your local post office.

(2) If you send your application by mail or if you or your courier delivers it by hand, the Application Control Center will mail a Grant Application Receipt Acknowledgment to you. If you do not receive the notification of application receipt within 15 days from the date of mailing the application, you should call the U. S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

Program Authority: 20 U.S.C. 7259-7259b.

Dated: May 5, 2003.
Kathleen Leos,
Senior Policy Advisor, Office of English Language Acquisition, Language Enhancement, and Academic Achievement for Limited English Proficient Students.

Appendix—Instructions for Estimated Public Reporting Burden

According to the Paperwork Reduction Act of 1995, you are not required to respond to a collection of information unless it displays a valid OMB control number. The valid OMB control number for this information collection is 1885-0540. Expiration date: 1/31/2006. We estimate the time required to complete this information collection to average 80 hours per response, including the time to review instructions, search existing data resources, gather the data needed, and complete and review the collection of information. If you have any comments concerning the accuracy of the time estimate or suggestions for improving this form, please write to: U.S. Department of Education, Washington, DC 20202-4651.

If you have comments or concerns regarding the status of your individual submission of this form, write directly to: Office of English Language Acquisition, U.S. Department of Education, 400 Maryland Avenue, SW., Room 5626, Switzer Building, Washington, DC 20202-6510.

Instructions for Application Narrative

Before preparing the Application Narrative you should read carefully the description of the program, the information regarding priorities, preferences and the selection criteria we use to evaluate applications.

Note: The section on PAGE LIMIT elsewhere in this application notice applies to your application.

1. Abstract. The narrative section should be preceded by a one-page, single-spaced Abstract summarizing your proposed Foreign Language Assistance Program. The Abstract should include a brief description of the project design, goals and the population to be served. If applicable, it is important to include information on the Competitive Priorities the project proposes to address. For Competitive Priority 1, be sure to include the language(s) and grade levels to be taught. For Competitive Priority 2, explain how the school qualifies as underserved. In addition, provide a short description of how the proposed program will not duplicate projects funded under Subpart 1 of Part A of Title VII of the Elementary and Secondary Education Act of 1965.

2. Table of Contents. Include a Table of Contents listing the parts of the narrative in the order of the selection criteria and the page numbers where the parts of the narrative are found. Be sure to number the pages of the narrative.

3. Selection Criteria. The narrative should fully address all aspects of the selection criteria in the order listed and should give detailed information regarding each criterion. Do not simply paraphrase the criteria. Do not include resumes. Instead, provide position descriptions for key personnel. Do not include bibliographies, letters of support or appendices in your application. Paginate all pages of the narrative. This package includes Program Guidance (Questions and Answers) to assist you in preparing the narrative portion of your application.

Checklist for Applicants

Use the following checklist to verify that all necessary items are addressed in your final application preparation. Prepare one original with an original signature and include three additional copies. Do not use elaborate bindings, notebooks or covers. The application package must be delivered to the Application Control Center (ACC) and postmarked by the deadline date published in this notice.

1. Application for Federal Assistance (ED 424 (Exp. 11/30/2004)).

2. Budget Information—Non-Construction Programs (ED Form No. 524).

• Section A—Complete the Budget Summary for U.S. Department of Education Funds requested for Project Years 1, 2 and 3,

• Section B—Complete the Budget Summary for Non-Federal Funds (local cost sharing) for Project Years 1, 2 and 3, and

• Section C—Provide an Itemized Budget Breakdown for Project Years 1, 2 and 3.

• A Budget Narrative may be provided for each of the 11 Budget Categories. It may be placed directly after the three Itemized Budgets and does not require double spacing or page numbers.

3. Group Application Certification, if more than one LEA is applying.

4. Foreign Language Data Form.

5. Assurances—Non-Construction Programs (Standard Form 424B) (Rev. 7-97).

6. Certifications regarding Lobbying; Debarment, Suspension, and Other Responsibility Matters; and Drug-Free Workplace Requirements (ED 80-0013, 12/98).

7. Certification Regarding Debarment, Suspension, Ineligibility and Voluntary Exclusion: Lower Tier Covered Transactions (ED 80-0014, 9/90) and instructions. (Note: ED 80-0014 is intended for the use of grantees and should not be transmitted to the Department.)

8. Disclosure of Lobbying Activities (Standard Form LLL (Rev. 7-97)) if applicable.

9. Applicant's response to the “Notice to All Applicants” concerning the Department of Education's General Education Provisions Act (GEPA).

10. Survey on Ensuring Equal Opportunity for Applicants.

11. Copy of letter to State Single Point of Contact (SPOC), if applicable.

12. Letter from an Authorized Representative of the school district requesting waiver of cost sharing requirement, if applicable.

13. Abstract. Including information on Competitive Priorities and Competitive Preferences, if applicable.

14. Table of Contents.

15. Application Narrative. No more than 35 pages using the section on Page Limit elsewhere in this application.

Foreign Language Assistance Program (FLAP) Grants to Local Educational Agencies Additional Non-Regulatory Guidance (Questions and Answers)

Q. Who is eligible to apply for a FLAP grant in this competition?

A. In this competition, eligibility is limited to local educational agencies. The term “local educational agency” means a public board of education or other public authority which maintains administrative control of public elementary or secondary schools in a city, county, township, school district or other political subdivision of a state. An intermediate unit within a State (e.g., a Board of Cooperative Educational Services (a BOCES) may apply for and receive a grant.

Q. If awarded a grant, may a grantee count on receiving FLAP funding for the full period of three years?

A. The actual level of program funding, if any, depends on final Congressional action each fiscal year.

Q. Is the estimated range of awards $50,000 to $175,000 over the period of three years?

A. The estimated range of awards is $50,000 to $175,000 for each year.

Q. May an LEA submit a proposal for afternoon and/or Saturday foreign language instruction?

A. The purpose of the Foreign Language Assistance Program is to pay the Federal share of the cost of innovative model programs, providing for the establishment, improvement or expansion of foreign language study. Therefore, it is recommended that the majority of instruction be carried out during the traditional school day with supplemental activities in the afternoon and/or Saturday.

Q. What is not a foreign language?

A. The Secretary does not award grants to programs that teach Native American languages, Native Hawaiian, other Pacific Island languages or Native Alaskan languages. In addition, the program is not intended to support the teaching of English. Although improvement of the English language skills of non-native English speakers is a desirable ancillary benefit of a two-way foreign language immersion program, the primary focus of projects funded under the Foreign Language Assistance program must be on foreign language learning. As a consequence, funds received under the Foreign Language Assistance Program may not be used to fund an activity that is solely or primarily concerned with English language instruction.

Q. How does an applicant for the Foreign Language Assistance Program address the requirements set forth by the Government Performance and Results Act (GPRA)?

A. Each applicant should align program goals, objectives and outcomes with the following GPRA indicators for the Foreign Language Assistance Program:

1. To increase student proficiency in reading, writing, comprehending and communicating in the foreign language.

2. To increase the usage of the National Foreign Language Standards (Communication, Culture, Connections, Comparisons and Communities).

3. To build local capacity to continue the foreign language program components beyond the grant period.

4. To disseminate and duplicate program approaches to other local educational agencies.

Q. What is the definition of an “elementary school”?

A. The term “elementary school” means a non-profit institutional day or residential school, including a public elementary charter school, that provides elementary education, as determined under State law. The definition of this term is in section 9101 of the Elementary and Secondary Education Act, as amended by the No Child Left Behind Act of 2001.

Q. What is the definition of a “secondary school”?

A. The term “secondary school” means a non-profit institutional day or residential school, including a public secondary charter school, that provides secondary education, as determined under State law, except that the term does not include any education beyond grade 12. The definition of this term is in section 9101 of the Elementary and Secondary Education Act, as amended by the No Child Left Behind Act of 2001.

Q. May an applicant use FLAP funds to support a foreign language program for Pre-kindergarten children?

A. If your State defines Pre-kindergarten as elementary education, FLAP funds may be used to serve those students.

Q. Where are the State definitions of an “elementary” or “secondary” program?

A. If you do not know what grade levels in your State are considered elementary and secondary, you should consult with your State educational agency.

Q. In light of the Competitive Priorities for Kindergarten through eighth grade and programs that teach Russian, Chinese and Arabic; should districts submit proposals for high schools and teaching other foreign languages?

A. Yes, applications that propose programs at the high school level and foreign languages other than Russian, Chinese and Arabic are encouraged to apply.

Q. How much of the estimated $10 million in program funds will be used to fund elementary programs?

A. By law, not less than 75 percent of the total funds appropriated must be used for the expansion of foreign language learning in the elementary grades. This requirement does not apply to individual programs.

Q. What is scientifically based research (SBR)?

A. SBR is research that involves the application of rigorous, systematic, and objective procedures to obtain reliable and valid knowledge relevant to education activities and programs. Some of the critical elements of SBR are as follows:

• Scientific Method

—Hypothesis

—Controls are used

—Outcome proves or disproves the hypothesis

• Replicated—repeat studies find the same results

• Generalized—study findings represent truth for the general population

• Meets Rigorous Standards—methods and conclusions must be confirmed by peer review

• Convergent findings—conclusions are in line with findings from other studies

Q. How does an applicant address the “Notice to all Applicants” concerning the Department of Education's General Education Provisions Act (GEPA)?

A. First, read the “Notice to all Applicants” included in the application package. Be sure to note the three examples included in the second column. Second, it is recommended that the applicant respond on a separate sheet of paper entitled “GEPA”. The required response should include a description of the steps the applicant proposes to take to ensure equitable access to, and participation in, its Federally assisted program for students, teachers, and other program beneficiaries with special needs.

Q. How does an applicant comply with Executive Order 12372, the Intergovernmental Review of Federal Programs, item #10 of the Application for Federal Education Assistance (ED 424)?

A. Applicants must first review the State Single Point of Contact (SPOC) list available at http://www.whitehouse.gov/omb/grants/spoc.html. If a State contact is included in the list, the applicant must contact the SPOC to inquire about the State's process under Executive Order 12372. If the State requests the application for review, a copy of the cover letter sent to the State contact must be submitted with the application package and Item #10 checked Yes with the date included. If the program is not covered by the Executive order, or the State has not selected the program for review, Item #10 must be checked No and the reason checked.

Q. What is the LEA's share of costs for the Foreign Language Assistance program for each fiscal year?

A. In order to build program capacity at the State and local level, cost sharing is required. The Federal share of the foreign language program for each fiscal year is restricted to 50 percent. Therefore, if the total cost of the proposed program is $100,000, the school district may request $50,000 in Federal funding. While a waiver may be granted for an LEA if the Secretary determines that the LEA does not have adequate resources to pay the non-Federal share of the cost of the activities, it is recommended that the district share the cost to the extent possible. The Education Department General Administrative Regulations, at 34 CFR 80.24, addresses Federal Cost sharing requirements.

Q. How does an LEA apply for a waiver of the non-Federal share of costs?

A. It is suggested that local educational agencies wishing to request a waiver from the requirement attach a letter to the application. The waiver request, signed by the Authorized Representative, should include information that will assist in determining whether the local educational agency seeking a waiver does not have adequate resources to pay the non-Federal share of the costs of the activities assisted under the Foreign Language Assistance program.

Q. Who should sign as the Authorized Representative on the Application for Federal Assistance and other forms?

A. It is recommended that the Superintendent of Schools sign as the Authorized Representative.

Q. Under this program, may an applicant propose to hire foreign language teachers?

A. Yes, program funds may be used to hire foreign language teachers.

Q. May two districts apply together if they are already working together in a foreign language program?

A. Yes, the statute does not prohibit school districts from applying together. However, one district must be designated as the fiscal agent and the Group Application Certification must be included in the application package and signed by an authorized representative from each district. The requirements on group applications are in 34 CFR 75.127-75.129.

Q. How may an applicant access information on the National Foreign Language Standards when designing their program?

A. An applicant may access information on the National Standards, State-Level Foreign Language Standards, the National Foreign Language Resource Centers and other useful Web sites at: http://www.cal.org/ericcll/faqs/rgos/flstandards.html.

Q. How does an applicant access the statutory provisions authorizing FLAP (Sections 5492 and 5493 of the Elementary and Secondary Education Act)?

A. Applicants may access sections 5492 and 5493 at the following Web site: http://www.ed.gov/offices/OELA/funding.html.

BILLING CODE 4000-01-P

[FR Doc. 03-11622 Filed 5-8-03; 8:45 am]

BILLING CODE 4000-01-C